ENVIRONMENTAL PROTECTION AGENCY

40 CFR Parts 52 and 70

[EPA-R07-OAR-2018-0536; FRL-9981-19—Region 7]

Air Plan Approval; Iowa; Approval of the State Implementation Plan and the Operating Permits Program

AGENCY: Environmental Protection Agency (EPA).

ACTION: Proposed rule.

SUMMARY: The Environmental Protection Agency (EPA) is proposing to approve revisions to the Iowa State Implementation Plan (SIP), and the Operating Permits Program. The proposed revisions clarify the types of mailing services that may be used for submitting construction and operating permit applications, and clarify that applications are not required to be submitted by certified mail. The proposed revisions also eliminate the requirement for construction permit applications for projects that will not emit greenhouse gases (GHG) to submit the current separate three-page GHG form. In addition, a revision to the operating permit program is being made to require only one copy of the permit application instead of two. Finally, this proposed action includes minor grammatical corrections. EPA has reviewed these proposed revisions and determined that they will not impact air quality and will ensure consistency between the state and federally approved rules.

DATES: Comments must be received on or before August 27, 2018.

ADDRESSES: Submit your comments, identified by Docket ID No. EPA-R07-OAR-2018-0536 to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

FOR FURTHER INFORMATION CONTACT: Heather Hamilton, Environmental Protection Agency, Air Planning and Development Branch, 11201 Renner Boulevard, Lenexa, Kansas 66219 at (913) 551-7039, or by email at hamilton.heather@epa.gov.

SUPPLEMENTARY INFORMATION: Throughout this document “we,” “us,” and “our” refer to EPA. This section provides additional information by addressing the following:

I. What is being addressed in this document?

II. Have the requirements for approval of a SIP and the operating permits program revision been met?

III. What actions are proposed?

IV. Incorporation by Reference

V. Statutory and Executive Order Reviews

I. What is being addressed in this document?

EPA is proposing to approve a submission from the state of Iowa to revise the Iowa SIP and Operating Permits Program. The proposed revisions to the SIP are to clarify the types of mailing services that may be used for submitting construction permit applications to include the U.S. Postal Service, private parcel delivery services, and hand delivery. Construction permit applications are not required to be submitted by certified mail. The proposed revisions also eliminate the requirement for construction permit applications for projects that will not emit greenhouses gases to submit the current three-page form.

The proposed revisions to the operating permits program clarifies the types of mailing services that may be used for submitting operating permit applications to include the U.S. Postal Service, private parcel delivery services, and hand delivery. Operating permit applications are not required to be submitted by certified mail. This proposal to the operating permits program is being made to require only one copy of the operating permit application instead of two.

This proposed action also includes minor grammatical corrections to the SIP for construction permit rules and minor grammatical corrections to the operating permits program rules.

II. Have the requirements for approval of a SIP and the operating permits program revision been met?

The administrative rule amendments in this submission were first published in the Iowa Administrative Bulletin as a Notice of Intended Action on January 18, 2017. A public comment period was held from January 18, 2017, to February 20, 2017, with a public hearing on February 20, 2017. EPA submitted a comment during the public comment period stating that the portion of the proposed amendment allowing submittal of a construction permit application or a title V operating permit application by email would not be approved until Iowa's electronic document receiving system was approved pursuant to the Cross Media Electronic Reporting Rule (CROMERR) at 40 CFR part 3.¹ In response to this comment, Iowa requested an applicability determination from EPA. A response from EPA dated May 25, 2017, was sent to Iowa stating email applications would not be considered CROMERR compliant.

¹ On December 29, 2009 (See 74 FR 68692), EPA did not act on Iowa's provision that allowed for electronic submittal for construction permit applications (subrule 22.1(3)), and electronic submittal for operating permit applications (subrule 22.105(1)) because Iowa's electronic document receiving system was not approved pursuant to CROMERR.

In response to the applicability determination, the state of Iowa amended the rules to remove the provisions for email applications and republished the Notice of Intended Action for public comment on August 16, 2017. A public comment period was held between August 16, 2017 and September 5, 2017, with a public hearing held on September 5, 2017. No comments were received during this period. The submission was sent to EPA on January 4, 2018, and received January 9, 2018.

The state submittal met the public notice requirements for SIP submissions in accordance with 40 CFR 51.102. The submittal also satisfied the completeness criteria of 40 CFR part 51, appendix V. In addition, these revisions meet the substantive SIP requirements of the CAA, including section 110 and implementing regulations. These revisions are also consistent with applicable EPA requirements of Title V of the CAA and 40 CFR part 70.

III. What actions are proposed?

EPA is proposing to approve revisions to the Iowa SIP, and the Operating Permits Program. The proposed revisions clarify the types of mailing services that may be used for submitting construction and operating permit applications, and clarify that applications are not required to be submitted by certified mail. The proposed revisions also eliminate the requirement for construction permit applications or projects that will not emit greenhouse gases (GHG) to submit the current separate three-page GHG form. In addition, a revision to the operating permit program is being made to require only one copy of the permit application instead of two. Finally, this proposed action includes minor grammatical corrections.

IV. Incorporation by Reference

In this action, EPA is proposing to include in a final EPA rule regulatory text that includes incorporation by reference. In accordance with requirements of 1 CFR 51.5, EPA is proposing to incorporate by reference the Iowa Regulations described in the amendments to 40 CFR part 52 set forth below. EPA has made, and will continue to make, these materials generally available through www.regulations.gov and at the EPA Region 7 Office (please contact the person identified in the FOR FURTHER INFORMATION CONTACT section of this preamble for more information).

V. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Intergovernmental relations, Reporting and recordkeeping requirements.

40 CFR Part 70

Environmental protection, Administrative practice and procedure, Air pollution control, Intergovernmental relations, Operating permits, Reporting and recordkeeping requirements.

Dated: July 16, 2018.
James B. Gulliford,
Regional Administrator, Region 7.

For the reasons stated in the preamble, EPA proposes to amend 40 CFR parts 52 and 70 as set forth below:

PART 52—APPROVAL AND PROMULGATION OF IMPLEMENTATION PLANS

1. The authority citation for part 52 continues to read as follows:

Authority: 2 U.S.C. 7401 et seq.

Subpart Q—Iowa

2. In § 52.820, the table in paragraph (c) is amended by revising the entry “567-22.1” to read as follows:

§ 52.820 Identification of plan.

* * * * *

(c) * * *

EPA-Approved Iowa Regulations
Iowa citation | Title | State effective date | EPA approval date | Explanation
Iowa Department of Natural Resources
Environmental Protection Commission [567]
* * * * * * *
Chapter 22—Controlling Pollution
567-22.1 | Permits Required for New or Existing Stationary Sources | 12/13/17 | [Date of publication of the final rule in the Federal Register], [Federal Register citation of the final rule] | Electronic submittal referred to in 22.1(3) is not SIP approved.
* * * * * * *

* * * * *

PART 70—STATE OPERATING PERMIT PROGRAMS

3. The authority citation for part 70 continues to read as follows:

Authority: 42 U.S.C. 7401, et seq.

4. Appendix A to part 70 is amended by adding paragraph (s) under the heading “Iowa” to read as follows:

Appendix A to Part 70—Approval Status of State and Local Operating Permits Programs

* * * * *

Iowa

* * * * *

(s) The Iowa Department of Natural Resources submitted for program approval revisions to rule 567-22.105. Electronic submittal referred to in 22.105 is not approved in the operating permits program. The state effective date is December 13, 2017. This revision is effective [date 60 days after date of publication of the final rule in the Federal Register].

* * * * *

[FR Doc. 2018-15924 Filed 7-25-18; 8:45 am]

BILLING CODE 6560-50-P